DEPARTMENT OF COMMERCE

Bureau of Industry and Security

President's Export Council, Subcommittee on Export Administration; Notice of Open Meeting

The President's Export Council Subcommittee on Export Administration (PECSEA) will meet on March 1, 2012, 10:00 a.m., and March 2, 2012, 9:00 a.m., at Sheppard Mullin Richter and Hampton LLP, 333 South Hope Street, Los Angeles, California, 90071. The PECSEA provides advice on matters pertinent to those portions of the Export Administration Act, as amended, that deal with United States policies of encouraging trade with all countries with which the United States has diplomatic or trading relations and of controlling trade for national security and foreign policy reasons.

Thursday, March 1

Open Session

1. Export Control Reform Field Hearing.

Friday, March 2

Open Session

1. Welcome and remarks by Chairman and Vice Chair.

2. Presentation of Papers or Comments by the Public.

3. Review of Field Hearing.

4. Discussion/Status of 2012 Workplan.

5. Subcommittee Breakout Sessions.

6. Port of LA Tour.

A limited number of seats will be available for the public sessions on both days. Reservations are not accepted. Early arrival (15-20 minutes) is requested for entry into the facility. To the extent time permits, members of the public may present oral statements to the PECSEA. Written statements may be submitted at any time before or after the meeting. However, to facilitate distribution of public presentation materials to PECSEA members, the PECSEA suggests that these materials or comments be forwarded before the meeting to Ms. Yvette Springer at Yvette.Springer@bis.doc.gov.

For more information, contact Yvette Springer on 202-482-2813.

Dated: February 9, 2012.
Kevin J. Wolf,
Assistant Secretary for Export Administration.

[FR Doc. 2012-3582 Filed 2-14-12; 8:45 am]

BILLING CODE 3510-JT-P